ENVIRONMENTAL PROTECTION AGENCY

[FRL-7071-4]

Agency Information Collection Activities: Proposed Collection; Comment Request; Institutional Controls Tracking Systems and Costs Survey

AGENCY: Environmental Protection Agency (EPA).

ACTION: Notice.

SUMMARY: In compliance with the Paperwork Reduction Act (44 U.S.C. 3501 et seq.), this document announces that EPA is planning to submit the following proposed Information Collection Request (ICR) to the Office of Management and Budget (OMB): Institutional Controls Tracking Systems and Costs Survey EPA ICR No. 2043.01. Before submitting the ICR to OMB for review and approval, EPA is soliciting comments on specific aspects of the proposed information collection as described below.

DATES: Comments must be submitted on or before December 3, 2001.

ADDRESSES: Comments submitted by regular U.S. Postal Service mail should be sent to: Docket Coordinator, Superfund Docket Office, Mail Code 5201G, U.S. Environmental Protection Agency, Ariel Rios Building, 1200 Pennsylvania Avenue, N.W., Washington, DC 20460. To ensure proper receipt by EPA, it is imperative that you identify docket control identifier IC-SURVEY in the subject line on the first page of your comments. Comments may also be submitted electronically or in person. Please follow the detailed instructions for these submission methods. Interested persons may obtain a copy of the ICR without charge from Michael E. Bellot at the Office of Emergency and Remedial Response, 5/7 Accelerated Response Section (5202G), 1200 Pennsylvania Avenue, N.W., Washington, DC 20460, telephone (703) 603-8905, e-mail bellot.michael@epa.gov, or download off the Internet at http://www.epa.gov/icr/icr.htm and refer to EPA ICR No. 2043.01.

FOR FURTHER INFORMATION CONTACT: Michael E. Bellot, telephone (703) 603-8905 or e-mail bellot.michael@epa.gov.

SUPPLEMENTARY INFORMATION: Affected entities: Entities potentially affected by this action are State, Tribal, or local government agencies or organizations that maintain tracking systems, databases, or other information systems that as their primary purpose or incidentally collect and/or track information pertaining to the selection, planning, design, implementation, oversight, monitoring, and/or enforcement of institutional controls at sites or facilities under their jurisdiction.

Title: Institutional Controls Tracking Systems and Costs Survey EPA ICR No. 2043.01.

Abstract: The Office of Emergency and Remedial Response (OERR) is currently researching the development of a system for tracking institutional controls at Superfund sites. Institutional controls are non-engineered site measures such as administrative and/or legal controls that minimize the potential for exposure to contamination by limiting land or resource use and/or protect the integrity of a remedy. Institutional controls are employed at sites where remedies are not yet in place, are ongoing, and/or leave contaminant residuals on site that do not allow for unlimited use and unrestricted exposure. Proper implementation, monitoring, and enforcement of institutional controls at these sites is critical to EPA's core mission of protecting human health and the environment. Although many of these institutional control mechanisms are necessary parts of the remedy, they are often implemented, monitored, and/or enforced by States, Tribes and/or local governments.

OERR is proposing to complete a study that includes: (1) Conducting research into the types of institutional controls tracking systems that are currently in use and evaluating their relative strengths and weaknesses; (2) developing a focused list of data collection points and definitions; (3) developing and piloting a process for the collection of data to be used to estimate data availability and the cost and time required for data acquisition; (4) developing a data entry process; and (5) researching the feasibility of data sharing and/or linking Federal, State, Tribal and/or local institutional control tracking into a web-based system. In a second phase of this study, OERR is planning to develop the tracking system, establish data linkages, and populate the database. It is anticipated that information on institutional controls eventually will be available to a variety of interested stakeholders over the EPA web page.

This proposed ICR specifies information necessary to determine what types of institutional controls tracking systems are currently in use; their purpose, scope, and structure; the kinds of data they track; their data entry, quality assurance, administration, and access features; data querying capabilities; compatibility with a future EPA system; development, population, and operating costs; and lessons learned from developing, implementing, and operating these systems.

EPA estimates that approximately 52 States, 10 Tribes, and no more than 200 local agencies (planning, zoning, and real estate recording offices) will be surveyed.

If approved by OMB, respondents will have 60 days from receipt of the survey to submit their responses.

In addition to the survey, this proposed ICR includes EPA requests for clarifications, questions and updates to the survey, and agency visits. Clarifications and updates will only be necessary if EPA has follow-up questions regarding responses or if EPA requires more information to understand a tracking system. Up to 50 agencies may be required to submit more detailed descriptions. EPA proposes to visit up to 20 agencies to evaluate institutional controls tracking systems.

Responding to the survey is entirely voluntary. An agency may not conduct or sponsor, and a person is not required to respond to, a collection of information unless it displays a currently valid OMB control number. The OMB control numbers for EPA's regulations are listed in 40 CFR part 9 and 48 CFR Chapter 15.

EPA is soliciting comments to:

(i) Evaluate whether the proposed collection of information is necessary for the proper performance of the functions of the agency, including whether the information will have practical utility;

(ii) evaluate the accuracy of the agency's estimate of the burden of the proposed collection of information, including the validity of the methodology and assumptions used;

(iii) enhance the quality, utility, and clarity of the information to be collected; and

(iv) minimize the burden of the collection of information on those who are to respond, including through the use of appropriate automated electronic, mechanical, or other technological collection techniques or other forms of information technology, e.g., permitting electronic submission of responses.

Burden Statement: Burden means the total time, effort, or financial resources expended by persons to generate, maintain, retain, or disclose or provide information to or for a Federal Agency. This includes the time needed to review instructions; collect, validate, and verify information, process and maintain information, and disclosing and providing information; search data sources; complete and review the collection of information; and transmit or otherwise disclose the information.

The average annual burden imposed by the survey and other information collection efforts are approximated using the following assumptions:

• Approximately half the agencies surveyed will not have an institutional controls tracking system. It is assumed that no more than 30 minutes would be required for these respondents. Each respondent will respond to the survey once. If the response rate is 100 percent, the estimated burden is 66 hours (131 respondents x 0.5 hours).

• Approximately half the remaining agencies will have a rudimentary tracking system or registry. It is assumed that six hours will be required to research and complete the survey and that follow-up contact will take no more than six hours. Each respondent will respond to the survey once. If the response rate is 100 percent, the estimated burden is 792 hours (66 respondents x 12 hours).

• No more than approximately 65 entities will have full systems. It is anticipated that 16 hours will be required to research and complete the survey and eight hours to follow up. Each respondent will respond to the survey once. If the response rate is 100 percent, the estimated burden is 1,560 hours (65 respondents x 24 hours).

• None of the respondents will incur new capital, start-up, operation, maintenance, or purchase of services costs in responding to the survey as the ICR seeks information only about existing activities and practices and does not require respondents to undertake new information collection or tracking tasks.

• The estimated average annual hour burden is 10 hours.

Dated: September 24, 2001.
Elaine F. Davies,
Acting Director, Office of Emergency and Remedial Response, Office of Solid Waste and Emergency Response.

[FR Doc. 01-24600 Filed 10-1-01; 8:45 am]

BILLING CODE 6560-50-P